DEPARTMENT OF STATE

[Public Notice: 9326]

Department of State Performance Review Board Members

In accordance with section 4314(c)(4) of 5 United States Code, the Department of State has appointed the following individuals to the Department of State Performance Review Board for Senior Executive Service members:

Philippe A. Lussier, Chairperson, Deputy Assistant Secretary, Bureau of Human Resources, Department of State;

Luis E. Arreaga, Principal Deputy Assistant Secretary, Bureau of International Narcotics and Law Enforcement Affairs, Department of State;

Lawrence E. Bartlett, Deputy Director, Office of Assistance for Asia and the Near East, Bureau of Population, Refugees, and Migration, Department of State;

Suzanne McCormick, Office Director, Office of Terrorism, Narcotics, and Crime, Bureau of Intelligence and Research, Department of State; and,

Katherine D. McManus, Deputy Legal Advisor, Office of the Legal Advisor, Department of State.

Dated: October 7, 2015.
Arnold Chacon,
Director General of the Foreign Service and Director of Human Resources, Department of State.

[FR Doc. 2015-27375 Filed 10-26-15; 8:45 am]

BILLING CODE 4710-05-P